DEPARTMENT OF ENERGY

Federal Energy Regulatory Commission

Combined Notice of Filings #1

March 9, 2006.

Take notice that the Commission received the following electric rate filings.

Docket Numbers: ER01-1836-003.

Applicants: Community Energy, Inc.

Description: Community Energy Inc. submits its revisions to its market based rate schedule, FERC Electric Rate Schedule 1 pursuant to Commission's February 2, 2006 order.

Filed Date: March 3, 2006.

Accession Number: 20060309-0022.

Comment Date: 5 p.m. Eastern Time on Friday, March 24, 2006.

Docket Numbers: ER01-205-012; ER98-2640-010; ER98-4590-008; ER99-1610-015.

Applicants: Xcel Energy Services, Inc.; Northern States Power Company; Northern Stats Power Company (Wisconsin); Public Services Company of Colorado; Southwestern Public Service Company.

Description: Xcel Energy Services Inc., on behalf of Northern States Power Co. et al., submits a change in status report relating to NSP and PSCo's market based rate authority pursuant to Commission June 16, 2005 order.

Filed Date: March 3, 2006.

Accession Number: 20060308-0021.

Comment Date: 5 p.m. Eastern Time on Friday, March 24, 2006.

Docket Numbers: ER03-509-002.

Applicants: Centennial Power, Inc.

Description: Centennial Power Inc. submits its updated market power analysis in compliance with FERC's prior orders issued March 7, 2003 and May 13, 2004.

Filed Date: March 3, 2006.

Accession Number: 20060308-0020.

Comment Date: 5 p.m. Eastern Time on Friday, March 24, 2006.

Docket Numbers: ER04-449-011.

Applicants: New York Independent System Operator, Inc.

Description: New York Independent System Operator, Inc. submits its fourth status report on the progress it is making with its stakeholders and its Final Deliverability Method Development and Testing Report.

Filed Date: March 3, 2006.

Accession Number: 20060308-0018.

Comment Date: 5 p.m. Eastern Time on Friday, March 24, 2006.

Docket Numbers: ER04-847-004.

Applicants: Michigan Electric Transmission Company, LLC.

Description: Michigan Electric Transmission Co. LLC submits revised Transmission Ownership and Operating Agreements between itself and the Michigan Public Power Agency pursuant to Commission's November 1, 2005 order.

Filed Date: March 3, 2006.

Accession Number: 20060308-0026.

Comment Date: 5 p.m. Eastern Time on Friday, March 24, 2006.

Docket Numbers: ER06-365-001.

Applicants: Entergy Services, Inc.

Description: Entergy Services Inc., agent for Entergy Operating Companies, submits its compliance filing pursuant to Commission's February 16, 2006 order to revise the Network Integration Transmission Service Agreements with the City of Conway, Arkansas.

Filed Date: March 3, 2006.

Accession Number: 20060308-0024.

Comment Date: 5 p.m. Eastern Time on Friday, March 24, 2006.

Docket Numbers: ER06-610-001.

Applicants: Midwest Independent Transmission System Operator, Inc.

Description: Midwest Independent Transmission System Operator Inc. submits an amendment to its February 3, 2006 filing of an Interconnection, Operation and Maintenance Agreement w/Indiana Municipal Power Agency et al.

Filed Date: March 3, 2006.

Accession Number: 20060308-0019.

Comment Date: 5 p.m. Eastern Time on Friday, March 24, 2006.

Docket Numbers: ER06-690-000.

Applicants: Midwest Independent Transmission System.

Description: Midwest Independent Transmission System Operator, Inc. submits revisions to its Open Access Transmission and Energy Markets Tariff and the Agreement of Transmissions Facilities Owners etc.

Filed Date: March 1, 2006.

Accession Number: 20060303-0089.

Comment Date: 5 p.m. Eastern Time on Wednesday, March 22, 2006.

Docket Numbers: ER06-701-000.

Applicants: PJM Interconnection, L.L.C.

Description: PJM Interconnection, LLC submits revisions to Schedule 2 of the PJM Open Access Transmission Tariff to reflect the revenue requirements to be paid to the entities for cost-based Reactive Support & Voltage Control etc.

Filed Date: March 3, 2006.

Accession Number: 20060309-0031.

Comment Date: 5 p.m. Eastern Time on Friday, March 24, 2006.

Docket Numbers: ER06-702-000.

Applicants: NEO Chester-Gen LLC.

Description: NEO Chester-Gen LLC submits a notice of cancellation canceling its market-based rate tariff, FERC Electric Tariff, Original Volume 1.

Filed Date: March 3, 2006.

Accession Number: 20060309-0026.

Comment Date: 5 p.m. Eastern Time on Friday, March 24, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-3874 Filed 3-16-06; 8:45 am]

BILLING CODE 6717-01-P